DEPARTMENT OF VETERANS AFFAIRS

Veterans' Rural Health Advisory Committee; Notice of Meeting

The Department of Veterans Affairs (VA) gives notice under Public Law 92-463 (Federal Advisory Committee Act) that the Veterans' Rural Health Advisory Committee will conduct a telephone conference call meeting from 2 p.m. to 4 p.m. on Thursday, December 10, 2009, in Room 844 at VA Central Office, 810 Vermont Avenue, NW., Washington, DC. The toll-free number for the meeting is 1-800-767-1750, and the access code is 57165#. The meeting is open to the public.

The purpose of the Committee is to advise the Secretary of Veterans Affairs on health care issues affecting enrolled Veterans residing in rural areas. The Committee examines programs and policies that impact the provision of VA health care to enrolled Veterans residing in rural areas and discusses ways to improve and enhance VA services for these Veterans.

The Committee will discuss the draft of its first Annual Report to the Secretary of Veterans Affairs, which includes formal recommendations on Veteran rural health care policy.

A 15-minute period will be reserved at 3:45 p.m. for public comments. Individuals who speak are invited to submit a 1-2 page summaries of their comments for inclusion in the official meeting record. Any member of the public seeking additional information should contact Christina White, Designated Federal Officer, at rural.health.inquiry@va.gov or (202) 461-7100.

Dated: November 19, 2009.
By direction of the Secretary.
Vivian Drake,
Acting Committee Management Officer.

[FR Doc. E9-28321 Filed 11-25-09; 8:45 am]

BILLING CODE P